DEPARTMENT OF HEALTH AND HUMAN SERVICES

[Document Identifier: OS-0990-New; 60-Day Notice]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60 days.

Proposed Project: Teen Pregnancy Prevention Replication Evaluation: Implementation Data Collection—OMB No. OS-0990-NEW—The Office of Adolescent Health in collaboration with the Office of the Assistant Secretary for Planning and Evaluation.

Abstract: The Office of Adolescent Health (OAH), Office of the Assistant Secretary for Health (OASH), U.S. Department of Health and Human Services (HHS), is overseeing and coordinating adolescent pregnancy prevention evaluation efforts as part of the Teen Pregnancy Prevention Initiative. OAH is working collaboratively with the Office of the Assistant Secretary for Planning and Evaluation (ASPE), the Centers for Disease Control and Prevention (CDC), and the Administration for Children and Families (ACF) on adolescent pregnancy prevention evaluation activities.

OAH in partnership with ASPE will be overseeing the Teen Pregnancy Prevention Replication Evaluation (TPP Replication Evaluation). The TPP Replication Evaluation will be an experimental evaluation which will determine the extent to which a subset of evidence-based program models funded as part of the OAH evidence-based Teen Pregnancy Prevention Initiative demonstrate effects on adolescent sexual risk behavior and teenage pregnancy when they are replicated in similar and in different settings and for different populations. The findings from this evaluation will be of interest to the general public, to policy-makers, and to organizations interested in teen pregnancy prevention.

OAH and ASPE are proposing implementation data collection activity as part of the TPP Replication Evaluation. The proposed activity involves the collection of information from program records and site visits at two to three points in the program implementation period. The implementation study will enable us to understand the programs, document their implementation and context, assess fidelity of implementation and the factors that influence it, and describe the counterfactual, or the “business as usual” services received by youth in the control group. This information will enable us to describe each implemented program and the treatment-control contrast evaluated in each site. It will also help us interpret impact analysis findings and may help explain any unexpected findings, differences in impacts across programs, and differences in impacts across locations or population subgroups.

Respondents: Semi-structured individual and group interviews will be held with agency administrators, program leaders and staff, partners in program participation, participating youths, school and community stakeholders, and other community members knowledgeable about related services for adolescents. All information will be collected by trained professional staff.

Estimated Annualized Burden Table
Instrument | Annual number of respondents | Number of responses per respondent | Average burden hours per response | Total annual burden hours | Average hourly wage of respondents | Total annual burden cost
TPP Replication Evaluation:
Discussion guide for grantee head (1) | 10 | 1 | 1.5 | 15 | $30 | $450
Discussion guide for program director (1) | 10 | 1 | 1.5 | 15 | 25 | 400
Discussion guide for supervisor of frontline staff (1) | 10 | 1 | 1.5 | 15 | 25 | 400
Discussion guide for frontline staff (3) | 30 | 1 | 1.5 | 45 | 20 | 900
Discussion guide for community partners (3) | 30 | 1 | 1 | 30 | 20 | 600
Discussion guide for school stakeholders (3) | 30 | 1 | 1 | 30 | 20 | 600
Discussion guide for community stakeholders (3) | 30 | 1 | 1 | 30 | 20 | 600
Focus group guide for frontline staff (6) | 60 | 1 | 1.5 | 90 | 15 | 1,350
Focus group guide for youth participants (10) | 100 | 1 | 1.5 | 150 | NA | 0
Totals | 310 |  |  | 420 |  | $5,300

Keith Tucker,
Office of the Secretary, Paperwork Reduction Act Clearance Officer.

[FR Doc. 2011-24443 Filed 9-22-11; 8:45 am]

BILLING CODE 4150-30-P